DEPARTMENT OF HOMELAND SECURITY

U.S. Citizenship and Immigration Services

[OMB Control Number 1615-0121]

Agency Information Collection Activities; Extension, Without Change, of a Currently Approved Collection: Generic Clearance for the Collection of Qualitative Feedback on Agency Service Delivery

AGENCY: U.S. Citizenship and Immigration Services, Department of Homeland Security.

ACTION: 60-Day notice; correction.

SUMMARY: The Department of Homeland Security, U.S. Citizenship and Immigration Services (USCIS) published a document in the Federal Register of April 1, 2020 requesting public comments in connection with the collection of information titled Generic Clearance of Qualitative Feedback on Agency Service Delivery in accordance with the Paperwork Reduction Act of 1995. USCIS incorrectly identified both the Docket Identification (Docket ID) and the Office of Management and Budget Control Number in the Address section of the original Notice.

SUPPLEMENTARY INFORMATION:

Correction

In the Federal Register of April 1, 2020, in FR Doc. 85-18254, in the first column, correct the DATES and ADDRESS captions to read:

DATES: Comments are encouraged and will be accepted for 60 days until June 8, 2020.

ADDRESSES: All submissions received must include the OMB Control Number 1615-0121 in the body of the letter, the agency name and Docket ID USCIS-2014-0008. Submit comments via the Federal eRulemaking Portal website at http://www.regulations.gov under e-Docket ID number USCIS-2014-0008. USCIS is limiting communications for this Notice as a result of USCIS' COVID-19 response actions.

Dated: April 1, 2020.
Samantha L Deshommes,
Chief, Regulatory Coordination Division, Office of Policy and Strategy, U.S. Citizenship and Immigration Services, Department of Homeland Security.

[FR Doc. 2020-07246 Filed 4-6-20; 8:45 am]

BILLING CODE 9111-97-P